DEPARTMENT OF THE INTERIOR

National Park Service

Kaloko-Honokohau National Historical Park Advisory Commission; Notice of Meeting

Notice is hereby given in accordance with the Federal Advisory Committee Act that a meeting of the Na Hoapili o Kaloko Honokohau, Kaloko-Honokohau National Historical Park Advisory Commission will be held at 9 a.m., October 27, 2000 at the King Kamehameha's Kona Beach Hotel, Kulana Huli Honua Room, Kailua-Kona, Hawaii.

The agenda will include the following: FY2000 budget status, replacement of Commission vacancies, scheduling of future meetings, progress of GMP, status of MOA, long range goals of Na Hoapili Advisory Commission, status of halau at Kaloko pond, kuapa repairs and funding, cultural festival for 2000, and the plans for the Cultural Learning Center.

This meeting is open to the public. It will be recorded for documentation and transcribed for dissemination. Minutes of the meeting will be available to the public after approval of the full Advisory Commission. A transcript will be available after November 27, 2000. For copies of the minutes, contact Kaloko-Honokohau National Historical Park at (808) 329-6881.

Dated: September 20, 2000.
Geraldine K. Bell,
Superintendent, Kaloko-Honokohau National Historical Park.

[FR Doc. 00-25251 Filed 9-29-00; 8:45 am]

BILLING CODE 4310-70-M